INTERNATIONAL TRADE COMMISSION

[Investigation No. 731-TA-856 (Final)]

Certain Ammonium Nitrate From Russia

AGENCY: United States International Trade Commission.

ACTION: Revised schedule for the subject investigation.

EFFECTIVE DATE: February 22, 2000.

FOR FURTHER INFORMATION CONTACT: Karen Taylor (202-708-4101), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On January 7, 2000, the Commission established a schedule for the conduct of the final phase of the subject investigation (65 FR 2643, January 18, 2000). Subsequently, the Department of Commerce extended the date for its final determination in the investigation from March 20, 2000, to May 22, 2000 (65 FR 6983, February 11, 2000). The Commission, therefore, is revising its schedule to conform with Commerce's new schedule.

The Commission's new schedule for the investigation is as follows: requests to appear at the hearing must be filed with the Secretary to the Commission not later than May 15, 2000; the prehearing conference will be held at the U.S. International Trade Commission Building at 9:30 a.m. on May 17, 2000; the prehearing staff report will be placed in the nonpublic record on May 11, 2000; the deadline for filing prehearing briefs is May 18, 2000; the hearing will be held at the U.S. International Trade Commission Building at 9:30 a.m. on May 24, 2000; the deadline for filing posthearing briefs is June 1, 2000; the Commission will make its final release of information on June 20, 2000; and final party comments are due on June 22, 2000.

For further information concerning this investigation, see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: February 23, 2000.
Donna R. Koehnke,
Secretary.

[FR Doc. 00-4909 Filed 2-29-00; 8:45 am]

BILLING CODE 7020-02-P